DEPARTMENT OF ENERGY

Federal Energy Regulatory Commission

[Project No. 12509-001]

Eagle Crest Energy Company; Notice of Intent To File License Application, Filing of Pre-Application Document, and Approving Use of the Traditional Licensing Process

March 6, 2008.

a. Type of Filing: Notice of Intent to File License Application and Request to Use the Traditional Licensing Process.

b. Project No.: 12509-001.

c. Dated Filed: January 10, 2008.

d. Submitted By: Eagle Crest Energy Company.

e. Name of Project: Eagle Mountain Pump Storage Project.

f. Location: In Riverside County, California. The project occupies private lands and lands of the United States managed by the Bureau of Land Management.

g. Filed Pursuant to: 18 CFR 5.3 of the Commission's regulations.

h. Potential Applicant Contact: Arthur W. Lowe, Eagle Crest Energy Company, PO Box 2155, Palm Desert, CA 92261; (760) 779-0040.

i. FERC Contact: Tim Looney at (202) 502-6096; or e-mail at timothy.looney@ferc.gov.

j. Eagle Crest Energy Company filed its request to use the Traditional Licensing Process on January 10, 2008. Eagle Crest Energy Company provided public notice of its request on January 9, 2008. In a letter dated March 4, 2008, the Director of the Office of Energy Projects approved Eagle Crest Energy Company's request to use the Traditional Licensing Process.

k. With this notice, we are initiating informal consultation with: (a) The U.S. Fish and Wildlife Service under section 7 of the Endangered Species Act and the joint agency regulations thereunder at 50 CFR, part 402; and (b) the California State Historic Preservation Officer, as required by section 106, National Historical Preservation Act, and the implementing regulations of the Advisory Council on Historic Preservation at 36 CFR 800.2.

l. Eagle Crest Energy Company filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll-free at 1-866-208-3676, or for TTY, (202) 502-8659. A copy is also available for inspection and reproduction at the address in paragraph h.

n. Register online at http://ferc.gov/esubscribenow.htm to be notified via e-mail of new filing and issuances related to this or other pending projects. For assistance, contact FERC Online Support.

Kimberly D. Bose,
Secretary.

[FR Doc. E8-5031 Filed 3-12-08; 8:45 am]

BILLING CODE 6717-01-P